DEPARTMENT OF ENERGY

Federal Energy Regulatory Commission

[Project No. 2851-016]

Cellu Tissue Corporation; Notice of Application Tendered for Filing With the Commission and Establishing Procedural Schedule for Licensing and Deadline for Submission of Final Amendments

May 12, 2010.

Take notice that the following hydroelectric application has been filed with the Commission and is available for public inspection.

a. Type of Application: New Major License.

b. Project No.: 2851-016.

c. Date Filed: April 29, 2010.

d. Applicant: Cellu Tissue Corporation.

e. Name of Project: Natural Dam Hydroelectric Project.

f. Location: On the Oswegatchie River in the town of Gouverneur, St. Lawrence County, New York. The project would not occupy any Federal lands.

g. Filed Pursuant to: 18 CFR part 5 of the Commission's Regulations.

h. Agent Contact: Chris Fiedler or Robin Gaumes, Cellu Tissue Corp., Natural Dam Mill, 4921 Route 58N, Gouverneur, NY 13642, (315) 287-7190.

i. FERC Contact: John Baummer, (202) 502-6837.

j. This application is not ready for environmental analysis at this time.

k. Project Description: The existing project consists of: (1) A 155 foot-long-dam and spillway with a inflatable rubber crest at a deflated crest elevation of 394.0 feet National Geodetic Vertical Datum (NGVD); (2) a 180-foot-long auxiliary dam/spillway with a crest elevation of 397.3 feet NGVD; (3) a 570-acre impoundment with a normal water surface elevation of 396.0 feet NGVD; (4) a 152-foot-long gated headpond structure leading to an intake structure and a 412-foot-long flume along the west bank of the river; (5) a 570-foot-long bypass reach; (6) a powerhouse containing three turbine generating units with a total installed capacity of 1,020 kW; and (7) electrical transformers located in a transformer yard adjacent to the north wall of the powerhouse that supply power for use at the Natural Dam Mill to produce specialty paper products.

Cellu Tissue Corporation proposes to: (1) Operate the project in a run-of river mode with a minimum impoundment elevation of 395.85 feet; (2) maintain a minimum bypass flow of 77 cubic feet per second (cfs) or inflow, whichever is less; (3) upgrade water level monitoring equipment for the impoundment; and (4) install equipment to allow for automatic pond level control.

l. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support.

n. Procedural Schedule: The application will be processed according to the following Hydro Licensing Schedule. Revisions to the schedule may be made as appropriate.

Milestone | Target date
Notice of Acceptance/Notice of Ready for Environmental Analysis | June 29, 2010.
Filing of Recommendations, preliminary terms and conditions, and fishway prescriptions | August 28, 2010.
Commission issues Non-Draft EA | December 26, 2010.
Comments on EA | January 25, 2011.
Modified Terms and Conditions | March 26, 2011.

o. Final amendments to the application must be filed with the Commission no later than 30 days from the issuance date of the notice of ready for environmental analysis.

Kimberly D. Bose,
Secretary.

[FR Doc. 2010-11910 Filed 5-18-10; 8:45 am]

BILLING CODE 6717-01-P